DEPARTMENT OF THE INTERIOR

Bureau of Land Management

[ES-960-1430-ET; WIES-032707]

Public Land Order No. 7667; Extension of Public Land Order No. 6619; Wisconsin

AGENCY: Bureau of Land Management, Interior.

ACTION: Public Land Order.

SUMMARY: This order extends Public Land Order No. 6619 for an additional 20-year period. This extension is necessary to allow the U.S. Fish and Wildlife Service to continue to manage the land as part of the Necedah National Wildlife Refuge.

DATES: Effective Date: July 25, 2006.

FOR FURTHER INFORMATION CONTACT: Ida Doup, BLM Eastern States Office, 7450 Boston Boulevard, Springfield, Virginia 22153, 703-440-1541.

Order

By virtue of the authority vested in the Secretary of the Interior by Section 204 of the Federal Land Policy and Management Act of 1976, 43 U.S.C. 1714 (2000), it is ordered as follows:

1. Public Land Order No. 6619 (51 FR 26687, July 25, 1986), which withdrew 4,107 acres of public land from settlement, sale, location and entry under the general land laws, but not from leasing under the mineral leasing laws, and reserved the land for use by the U.S. Fish and Wildlife Service in conjunction with the Necedah National Wildlife Refuge, is hereby extended for an additional 20-year period.

2. Public Land Order No. 6619 will expire on July 24, 2026, unless, as a result of a review conducted prior to the expiration date pursuant to Section 204(f) of the Federal Land Policy and Management Act of 1976, 43 U.S.C. 1714(f) (2000), the Secretary determines that the withdrawal shall be extended.

(Authority: 43 CFR 2310.4)
Dated: July 3, 2006.
R. Thomas Weimer,
Assistant Secretary of the Interior.

[FR Doc. E6-12006 Filed 7-26-06; 8:45 am]

BILLING CODE 4310-55-P